NATIONAL SCIENCE FOUNDATION

Agency Information Collection Activities; Comment Request; Graduate Research Fellowship Program Pilot Data Collection for Monitoring Longitudinal Career Outcomes of Fellowship Recipients; Proposed Information Collection Request

AGENCY: National Science Foundation.

ACTION: Notice.

SUMMARY: The National Science Foundation (NSF) is announcing plans to request establishment and clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

A copy of the proposed information collection request (ICR) can be obtained by contacting the office listed below in the ADDRESSES section of this notice.

DATES: Submit comments before May 9, 2016.

ADDRESSES: Suzanne H. Plimpton, Reports Clearance Officer, National Science Foundation, 4201 Wilson Boulevard, Suite 1265, Arlington, Virginia 22230 or send email to splimpto@nsf.gov. Copies of the submission may be obtained by calling (703) 292-7556.

Instructions: Please submit one copy of your comments by only one method. All submissions received must include the agency name and collection name identified above for this information collection. Commenters are strongly encouraged to transmit their comments electronically via email. Comments, including any personal information provided become a matter of public record. They will be summarized and/or included in the request for Office of Management and Budget approval of the information collection request.

FOR FURTHER INFORMATION CONTACT: Suzanne H. Plimpton, Reports Clearance Officer, National Science Foundation, 4201 Wilson Boulevard, Suite 1265, Arlington, Virginia 22230 or send email to splimpto@nsf.gov. Copies of the submission may be obtained by calling (703) 292-7556. Individuals who use a telecommunications device for the deaf (TDD) may call the Federal Information Relay Service (FIRS) at 1-800-877-8339, which is accessible 24 hours a day, 7 days a week, 365 days a year (including federal holidays).

SUPPLEMENTARY INFORMATION:

Title of Collection:

OMB Number: 3145-NEW.

Type of request: Intent to seek approval for ICR.

Abstract

The National Science Foundation (NSF) seeks to develop and pilot an instrument to follow several cohorts of Graduate Research Fellowship Program (GRFP) Fellows to track program and career outcomes over time. The intent is for the pilot instrument to become part of a permanent monitoring system to track all Fellows over time.

As part of NSF's commitment to graduate student education in the U.S, the GRFP seeks to promote and maintain advanced training in science, technology, engineering, and mathematics (STEM) field by annually awarding about 2,000 fellowships to graduate students in research-based programs. The program goals are: (1) To select, recognize, and financially support, early in their careers, individuals with the demonstrated potential to be high achieving scientists and engineers, and (2) to broaden participation in science and engineering of underrepresented groups, including women, minorities, persons with disabilities, and veterans. NSF especially encourages women, members of underrepresented minority groups, persons with disabilities, and veterans to apply. NSF also encourages undergraduate seniors to apply. GRFP is a critical program in NSF's overall strategy to develop the globally-engaged workforce necessary to ensure the Nation's leadership in advancing science and engineering research and innovation.

The program has had two large-scale evaluations, first in 2002 and again in 2012. The second evaluation coincided with a major program expansion by NSF, whereby the annual number of fellowship awards was increased from roughly 1,000 to the current 2,000. As the program has expanded, so has the need for a monitoring system to track program outcomes and Fellow career trajectories following completion of the fellowship.

NSF contracts with NORC at the University of Chicago to develop and pilot a data collection instrument to support GRFP monitoring. The objective of the monitoring activity will be to accomplish the following:

• NSF will be able at any time to provide cumulative as well as annualized data on outcomes for the Fellows (e.g., career outcomes of minority Fellows in 2017, as compared to 2015, etc.) and compare those results to national samples. The longitudinal collections will allow NSF to analyze how Fellows' careers develop over time and if there are differences in the career outcomes related to Fellow demographics and field of study.

• NSF will be able to analyze trends on a large number of career outcomes for key subpopulations of Fellows including women, underrepresented minorities, individuals with disabilities, and veterans, and monitor them within fields of graduate study, in order to inform policy and program changes.

The data collection instrument will be designed to gather information on the following broad sets of variables:

• Career activities, progress, and job characteristics following graduate school;

• STEM-related professional productivity (e.g., publications, presentations, patents, etc.);

• Broader impacts of the Fellows (ways in which the Fellows or their work may benefit society).

The pilot data will be collected primarily through a Web-based survey. The data will be supplemented with administrative data collected by the GRFP on the demographic and educational backgrounds of the Fellows. The pilot data will be collected in two rounds after questionnaire testing, with survey rounds conducted in both 2016 and 2017. The 2016 round will include all Fellows from award years 2003, 2006, and 2009 and the 2017 round will include all Fellows from award years 2004, 2007, and 2010. These two rounds will collect data from Fellows with different award years (i.e., no Fellow will be asked to participate in both rounds) to obtain comparable baseline data on their career outcomes, and to refine the instrument administration procedures and survey content to maximize the reliability and validity of the questionnaire items.

Although the project will adopt questions that have been tested and used in previous National Center for Science and Engineering Statistics (NCSES) instruments, the GRFP instrument is be considered a new instrument because it will include some new questions and the questions from different NCSES questionnaires will be combined and re-sequenced. Therefore, there is a need to test the questionnaire via cognitive interviews before conducting a larger data collection with all Fellows.

I. Review Focus

NSF is interested in comments on the practical utility of the survey in view of the project goals and the study approach, the burden on respondents and potential ways to minimize it.

Comments submitted in response to this Notice will be summarized and included in the request for Office of Management and Budget approval of the ICR; they will also become a matter of public record.

II. Current Actions

Affected Public: Individuals.

Frequency: Questionnaire testing followed by two rounds of pilot data collection.

Total Respondents:

Questionnaire Testing Phase: The plan is to conduct two iterations (“rounds”) of cognitive interviews, with up to 25 respondents in the first round and 15 in the second round. In the first round the instrument will be tested to determine if revisions are necessary and, if so, to develop revisions to be tested in the second round. The respondents are expected to be graduate degree candidates or recipients.

Pilot Round 1: Surveys will be administered to approximately 2,434 GRFP Fellows (there are approximately 3,042 Fellows who were awarded the GRFP in 2003, 2006, or 2009, and we expect approximately 80% of these Fellows to respond).

Pilot Round 2: Surveys will be administered to approximately 3,152 GRFP Fellows (there are approximately 3,940 Fellows who were awarded the GRFP in 2004, 2007, or 2010, and we expect approximately 80% of these Fellows to respond). Note that because different award years are included in each round of the survey, there is no overlap in participants between rounds 1 and 2.

Estimated Total Burden Hours:

Questionnaire Testing Phase: The Foundation estimates that, on average, 120 minutes per respondent will be required to participate in the cognitive interview. The annual respondent burden for participating in the cognitive interviews is estimated at 80 hours, based on 40 respondents.

Pilot Round 1: The Foundation estimates that, on average, the survey will take approximately 45-60 minutes to complete. The annual respondent burden for Pilot Round 1 is estimated at between 1,826 and 2,434 hours, based on 2,434 respondents.

Pilot Round 2: The Foundation estimates that, on average, the survey will take approximately 45-60 minutes to complete. The annual respondent burden for Pilot Round 2 is estimated at between 2,364 and 3,152 hours, based on 3,152 respondents.

Dated: March 4, 2016.
Suzanne H. Plimpton,
Reports Clearance Officer, National Science Foundation.

[FR Doc. 2016-05280 Filed 3-8-16; 8:45 am]

BILLING CODE 7555-01-P